FEDERAL TRADE COMMISSION

16 CFR Part 3

Consent Agreement Settlements; Corrections

AGENCY: Federal Trade Commission.

ACTION: Correcting amendments.

SUMMARY: The Federal Trade Commission published a document in the Federal Register on April 3, 2001 (66 FR 17622), that, inter alia, revised § 3.25(c) of the Commission Rules of Practice by adding a new sentence, and by adding a new clause to an existing sentence, and made those revisions effective on May 18, 2001. The Commission subsequently published a document in the Federal Register on December 12, 2001 (66 FR 64142), that, inter alia, further revised § 3.25(c), and made those revisions effective on December 12, 2001. Inadvertently, however, the December 12, 2001 document did not include in its depiction of § 3.25(c), as revised, the new sentence and new clause added by the April 3, 2001 document. This document corrects § 3.25(c) by re-adding the new sentence and the new clause originally added by the April 3, 2001 document.

DATES: Effective on May 18, 2001.

FOR FURTHER INFORMATION CONTACT: Donald S. Clark, Secretary of the Commission, at (202) 326-2514.

SUPPLEMENTARY INFORMATION: This is a summary of the FTC's Erratum.

List of Subjects in 16 CFR Part 3

Administrative practice and procedure, Claims, Equal Access to Justice, Lawyers.

Accordingly, 16 CFR part 3 is corrected by making the following correcting amendment:

PART 3—RULES OF PRACTICE FOR ADJUDICATIVE PROCEEDINGS

1. The authority citation for Part 3 continues to read as follows:

Authority: 15 U.S.C. 46, unless otherwise noted.

2. Revise § 3.25(c) to read as follows:

§ 3.25 Consent agreement settlements.

* * * * *

(c) If the proposed consent agreement accompanying the motion has also been executed by complaint counsel and approved by the appropriate Bureau Director, and the matter is still pending before an Administrative Law Judge, the Secretary shall issue an order withdrawing from adjudication those portions of the matter that the proposal would resolve and all proceedings before the Administrative Law Judge shall be stayed with respect to such portions, pending a determination by the Commission pursuant to paragraph (f) of this section. If the matter is pending before the Commission, the Commission in its discretion may, on motion, issue an order withdrawing from adjudication those portions of the matter that a proposed consent agreement would resolve for the purpose of considering the proposed consent agreement.

* * * * *

Donald S. Clark,
Secretary.

[FR Doc. 05-22162 Filed 11-4-05; 8:45 am]

BILLING CODE 6750-01-P